DEPARTMENT OF HOMELAND SECURITY

Coast Guard

33 CFR Part 100

[Docket No. CGD13-07-014]

RIN 1625-AA08

National Maritime Week Tugboat Races, Seattle, WA

AGENCY: Coast Guard, DHS.

ACTION: Notice of enforcement.

SUMMARY: The Coast Guard will enforce the annual National Maritime Week Tugboat Races Special Local Regulations in Elliot Bay from 12 p.m. to 4:30 p.m. on May 12, 2007. This action is necessary to ensure the safety of participants and spectators during the National Maritime Week Tugboat Races. During the enforcement period, entry into, transit through, mooring, or anchoring within this zone is prohibited unless authorized by the Captain of the Port, Puget Sound or his designated representatives.

DATES: The regulations in 33 CFR 100.1306 will be enforced from 12 p.m. to 4:30 p.m. on May 12, 2007.

FOR FURTHER INFORMATION CONTACT: Lieutenant Steve Kee, c/o Captain of the Port Puget Sound, Coast Guard Sector Seattle, 1519 Alaskan Way South, Seattle, WA 98134 at (206) 217-6002.

SUPPLEMENTARY INFORMATION: On May 6, 2005, the Coast Guard published a final rule (70 FR 23936-23938) modifying the regulations in 33 CFR 100.1306 for the safe execution of the Seattle Maritime Festival Tugboat Races on the waters of Elliot Bay. This Special Local Regulation (SLR) provides for a regulated area to protect spectators while providing unobstructed vessel traffic lanes to ensure timely arrival of emergency response craft. Movements are regulated for all vessels in the area as described under 33 CFR 100.1306 or unless otherwise regulated by the Captain of the Port or his designee. The Coast Guard may be assisted by other Federal, State, or local law enforcement agencies in enforcing this SLR. The Coast Guard will enforce the SLR for the annual National Maritime Week Tugboat Races, Seattle, WA in 33 CFR 100.1306 on May 12, 2007, from 12 p.m. to 4:30 p.m.

Under the provisions of 33 CFR 100.1306, entry into, transit through, mooring, or anchoring within this zone is prohibited unless authorized by the Captain of the Port, Puget Sound or his designee. Spectator vessels may safely transit outside the regulated area but may not anchor, block, loiter in, or impede the transit of race participants or official patrol vessels. The Coast Guard may be assisted by other Federal, State, or local law enforcement agencies in enforcing this regulation.

This notice is issued under authority of 33 CFR 100.1306(c) and 5 U.S.C. 552(a).

Dated: April 20, 2007.
Mark J. Huebschman,
Commander, U.S. Coast Guard, Captain of the Port, Puget Sound, Acting.

[FR Doc. E7-8727 Filed 5-7-07; 8:45 am]

BILLING CODE 4910-15-P